DEPARTMENT OF TRANSPORTATION

Federal Motor Carrier Safety Administration

[Docket No. FMCSA-2012-0279]

Qualification of Drivers; Exemption Applications; Vision

AGENCY: Federal Motor Carrier Safety Administration (FMCSA), DOT.

ACTION: Notice of applications for exemptions; request for comments.

SUMMARY: FMCSA announces receipt of applications from 15 individuals for exemption from the vision requirement in the Federal Motor Carrier Safety Regulations. They are unable to meet the vision requirement in one eye for various reasons. The exemptions will enable these individuals to operate commercial motor vehicles (CMVs) in interstate commerce without meeting the prescribed vision requirement in one eye. If granted, the exemptions would enable these individuals to qualify as drivers of commercial motor vehicles (CMVs) in interstate commerce.

DATES: Comments must be received on or before October 31, 2012.

ADDRESSES: You may submit comments bearing the Federal Docket Management System (FDMS) Docket No. FMCSA-2012-0279 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review DOT's Privacy Act Statement for the FDMS published in the Federal Register on January 17, 2008 (73 FR 3316), or you may visit http://edocket.access.gpo.gov/2008/pdf/E8-785.pdf.

FOR FURTHER INFORMATION CONTACT: Elaine M. Papp, Chief, Medical Programs Division, (202) 366-4001, fmcsamedical@dot.gov, FMCSA, Department of Transportation, 1200 New Jersey Avenue SE., Room W64-224, Washington, DC 20590-0001. Office hours are from 8:30 a.m. to 5 p.m., Monday through Friday, except Federal holidays.

SUPPLEMENTARY INFORMATION:

Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 15 individuals listed in this notice have each requested such an exemption from the vision requirement in 49 CFR 391.41(b)(10), which applies to drivers of CMVs in interstate commerce. Accordingly, the Agency will evaluate the qualifications of each applicant to determine whether granting an exemption will achieve the required level of safety mandated by statute.

Qualifications of Applicants

Deurice K. Dean

Mr. Dean, age 39, has had coat's disease in his left eye since birth. The visual acuity in his right eye is 20/15, and in his left eye, 20/400. Following an examination in 2012, his ophthalmologist noted, “He has been driving a truck for the last 12 years and therefore it is reasonable to assume that he has sufficient vision to perform the driving tasks require to operate a commercial vehicle.” Mr. Dean reported that he has driven straight trucks for 12 years, accumulating 999,996 miles, and tractor-trailer combinations for 6 years, accumulating 1,800 miles. He holds a Class A Commercial Driver's License (CDL) from Maryland. His driving record for the last 3 years shows no crashes and no convictions for moving violations in a CMV.

Terry J. Edwards

Mr. Edwards, 53, has a prosthetic right eye due to a traumatic injury sustained at age 5. The best corrected visual acuity in his right eye is no light perception, and in his left eye, 20/20. Following an examination in 2011, his optometrist noted, “I certify that Mr. Edwards meets the requirement as stated and has sufficient vision to perform the driving tasks needed to drive a commercial vehicle.” Mr. Edwards reported that he has driven straight trucks for 10 years, accumulating 1.2 million miles, and tractor-trailer combinations for 10 years, accumulating 1.5 million miles. He holds an operator's license from Missouri. His driving record for the last 3 years shows no crashes and no convictions for moving violations in a CMV.

Raymundo Flores

Mr. Flores, 48, has complete loss of vision in his left eye due to a traumatic injury sustained at age 2. The best corrected visual acuity in his right eye is 20/20. Following an examination in 2012, his ophthalmologist noted, “Yes, I (Cheryl Snyder M.D.) certify Mr. Flores has sufficient vision to perform driving tasks required to operate a commercial vehicle.” Mr. Flores reported that he has driven straight trucks for 15 years, accumulating 780,000 miles, and tractor-trailer combinations for 9 years, accumulating 702,000 miles. He holds a Class A CDL from Texas. His driving record for the last 3 years shows no crashes and no convictions for moving violations in a CMV.

Charles F. Huffman

Mr. Huffman, 53, has had amblyopia in his left eye since childhood. The best corrected visual acuity in his right eye is 20/20, and in his left eye, 20/400. Following an examination in 2012, his optometrist noted, “I feel that he has sufficient vision to perform the driving tasks required to operate a commercial vehicle.” Mr. Huffman reported that he has driven tractor-trailer combinations for 5 years, accumulating 453,000 miles. He holds a Class A CDL from Washington. His driving record for the last 3 years shows no crashes but one conviction for speeding in a CMV; he exceeded the speed limit by 15 or more mph.

Ivaylo V. Kanchev

Mr. Kanchev, 39, has had amblyopia in his left eye since childhood. The best corrected visual acuity in his right eye is 20/20, and in his left eye, 20/60. Following an examination in 2012, his optometrist noted, “Mr. Kanchev has sufficient vision to perform the driving tasks required to operate a commercial vehicle.” Mr. Kanchev reported that he has driven tractor-trailer combinations for 7 years, accumulating 770,000 miles. He holds a Class A CDL from Florida. His driving record for the last 3 years shows no crashes but one conviction for a moving violation in a CMV; coasting or operating with gears disengaged.

Charlie C. Kimmel

Mr. Kimmel, 56, had a retinal detachment in his right eye due to a traumatic injury sustained 10 years ago. The visual acuity in his right eye is hand motion vision, and in his left eye, 20/20. Following an examination in 2011, his optometrist noted, “Has sufficient vision to perform the driving task required to operate a commercial vehicle.” Mr. Kimmel reported that he has driven straight trucks for 7 years, accumulating 129,500 miles, and tractor-trailer combinations for 7 years, accumulating 70,000 miles. He holds a Class A CDL from Texas. His driving record for the last 3 years shows no crashes and no convictions for moving violations in a CMV.

Laine Lewin

Mr. Lewin, 32, has a macular scar in the right eye sustained at age 13. The best corrected visual acuity in his right eye is hand motion vision, and in his left eye, 20/20. Following an examination in 2012, his optometrist noted, “There is no reason for me to believe that Mr. Lewin would have any difficulty, based on his vision, performing the driving tasks required to operate a commercial motor vehicle safely.” Mr. Lewin reported that he has driven straight trucks for 3 years, accumulating 2,700 miles, and tractor-trailer combinations for 16 years, accumulating 48,000 miles. He holds a Class D license from Minnesota. His driving record for the last 3 years shows no crashes and no convictions for moving violations in a CMV.

Jimmy R. Mauldin

Mr. Mauldin, 75, has esotropia in the right eye due to whooping cough sustained at age 2. The best corrected visual acuity in his right eye is hand motion vision, and in his left eye, 20/30. Following an examination in 2012, his optometrist noted, “it is in my medical opinion the vision is sufficient to perform the driving tasks required to operate a commercial vehicle.” Mr. Mauldin reported that he has driven straight trucks for 7 years, accumulating 280,000 miles, and tractor-trailer combinations for 8 years, accumulating 480,000 miles. He holds a Class A CDL from Oklahoma. His driving record for the last 3 years shows no crashes and no convictions for moving violations in a CMV.

Johnny Montemayor

Mr. Montemayor, 61, has a macular scar on his left eye due to a traumatic injury sustained in 1988. The best corrected visual acuity in his right eye is 20/20, and in his left eye, 20/400. Following an examination in 2012, his optometrist noted, “Based upon the patient's history and my examination finding, I am reporting that Mr. Montemayor has sufficient vision to perform the driving tasks required to operate a commercial vehicle.” Mr. Montemayor reported that he has driven tractor-trailer combinations for 30 years, accumulating 160,080 miles. He holds a Class A CDL from Texas. His driving record for the last 3 years shows no crashes and no convictions for moving violations in a CMV.

Christopher S. Morgan

Mr. Morgan, 30, has had amblyopia in his right eye since childhood. The best corrected visual acuity in his right eye is 20/50, and in his left eye, 20/20. Following an examination in 2012, his ophthalmologist noted, “In my medical opinion, Mr. Morgan has sufficient vision to perform the driving tasks required to operate a commercial vehicle.” Mr. Morgan reported that he has driven straight trucks for 5 years, accumulating 75,000 miles, and tractor-trailer combinations for 3 years, accumulating 135,000 miles. He holds an operator license from Louisiana. His driving record for the last 3 years shows no crashes and no convictions for moving violations in a CMV.

William T. Owens

Mr. Owens, 57, has central serous choroidopathy in his right eye since 2002. The best corrected visual acuity in his right eye is 20/150, and in his left eye, 20/20. Following an examination in 2012, his optometrist noted, “It is in my medical opinion that Mr. Owens has adequate visual function to perform his work duties and maintain his CDL license in the operation of a commercial vehicle.” Mr. Owens reported that he has driven tractor-trailer combinations for 35 years, accumulating 3.2 million miles. He holds a Class A CDL from Virginia. His driving record for the last 3 years shows no crashes and no convictions for moving violations in a CMV.

Jeffrey S. Pennell

Mr. Pennell, 49, has had amblyopia in his left eye since childhood. The best corrected visual acuity in his right eye is 20/15, and in his left eye, 20/400. Following an examination in 2012, his optometrist noted, “In my opinion, he has sufficient vision to operate a commercial vehicle.” Mr. Pennell reported that he has driven straight trucks for 22 years, accumulating 792,000 miles, tractor-trailer combinations for 12 years, accumulating 336,000 miles, and buses for 5 months, accumulating 2,000 miles. He holds a Class A CDL from Vermont. His driving record for the last 3 years shows no crashes and no convictions for moving violations in a CMV.

Donald R. Strickland

Mr. Strickland, 71, has had amblyopia in his right eye since birth. The best corrected visual acuity in his right eye is 20/25, and in his left eye, 20/400. Following an examination in 2012, his optometrist noted, “In Summary, Mr. Strickland has excellent vision in the right eye and, somewhat diminished vision in the left eye. However, it is my medical opinion that Mr. Strickland has sufficient visual acuity to perform the duties required for a commercial vehicle.” Mr. Strickland reported that he has driven tractor-trailer combinations for 35 years, accumulating 2.6 million miles. He holds a Class A CDL from North Carolina. His driving record for the last 3 years shows no crashes and no convictions for moving violations in a CMV.

Vaughn J. Suhling

Mr. Suhling, 51, has a ocular histoplasmosis scar in his right eye sustained in 1990. The best corrected visual acuity in his right eye is 20/200, and in his left eye, 20/20. Following an examination in 2012, his optometrist noted, “I believe Mr. Suhling has sufficient vision to perform the driving tasks required to continue to operate a commercial vehicle.” Mr. Suhling reported that he has driven straight trucks for 35 years, accumulating 420,000 miles, and tractor-trailer combinations for 6 years, accumulating 24,000 miles. He holds a Class A CDL from Illinois. His driving record for the last 3 years shows no crashes and no convictions for moving violations in a CMV.

Max A. Thurman

Mr. Thurman, 75, has a prosthetic left eye due to a traumatic injury sustained 10 years ago. The visual acuity in his right eye is 20/25. Following an examination in 2011, his optometrist noted, “I certify that patient has sufficient vision to perform the driving tasks required to operate a commercial vehicle.” Mr. Thurman reported that he has driven straight trucks for 60 years, accumulating 6,000 miles, and tractor-trailer combinations for 50 years, accumulating 4.5 million miles. He holds a Class A CDL from Illinois. His driving record for the last 3 years shows no crashes and no convictions for moving violations in a CMV.

Request for Comments

In accordance with 49 U.S.C. 31136(e) and 31315, FMCSA requests public comment from all interested persons on the exemption petitions described in this notice. The Agency will consider all comments received before the close of business October 31, 2012. Comments will be available for examination in the docket at the location listed under the ADDRESSES section of this notice. The Agency will file comments received after the comment closing date in the public docket, and will consider them to the extent practicable.

In addition to late comments, FMCSA will also continue to file, in the public docket, relevant information that becomes available after the comment closing date. Interested persons should monitor the public docket for new material.

Issued on: September 21, 2012.
Larry W. Minor,
Associate Administrator for Policy.

[FR Doc. 2012-24141 Filed 9-28-12; 8:45 am]

BILLING CODE 4910-EX-P